OFFICE OF THE UNITED STATES TRADE REPRESENTATIVE

Trade Benefits for Caribbean Basin Countries: Notice of Request for Public Comment Regarding Eligibility Criteria for Beneficiaries of the United States-Caribbean Basin Trade Partnership Act (CBTPA)

AGENCY: Office of the United States Trade Representative.

ACTION: Notice and solicitation of public comment.

SUMMARY: The Caribbean/Central America Subcommittee of the Trade Policy Staff Committee is requesting public comment on the eligibility of Caribbean Basin countries to receive the benefits of the recently-enacted United States-Caribbean Basin Trade Partnership Act (CBTPA). This notice addresses the eligibility criteria that must be considered under the CBTPA, the countries considered to be Caribbean Basin countries under the CBTPA, and the deadline for written comments, and explains how written comments are to be made on the eligibility criteria elaborated in the CBTPA. Comments received will be considered by the Caribbean/Central America Subcommittee of the Trade Policy Staff Committee, chaired by USTR, in developing recommendations on country eligibility for the President.

FOR FURTHER INFORMATION CONTACT: For procedural questions, contact: Gloria Blue, Office of the United States Trade Representative, 600 17th Street, NW., Room 122, Washington, DC 20508. The telephone number is (202) 395-3475. For substantive questions, contact Bennett Harman, Office of the Western Hemisphere, Office of the United States Trade Representative, 600 17th Street, NW., Room 523, Washington, DC 20508. The telephone number is (202) 395-5190.

SUPPLEMENTARY INFORMATION: Signed into law on May 18, 2000, the Trade and Development Act of 2000 contains, in Title II, provisions for enhanced trade benefits for Caribbean Basin countries. Titled the “United States-Caribbean Basin Trade Partnership Act” (CBTPA), the CBTPA amends the Caribbean Basin Economic Recovery Act (CBERA), also known as the Caribbean Basin Initiative (CBI) (19 U.S.C. 2701 et seq.), to provide preferential tariff treatment for certain products presently excluded from such treatment, including duty-free and quota-free treatment for certain textile and apparel articles.

Eligibility Criteria

Eligibility for the enhanced trade benefits under the CBTPA is limited to countries that the President designates as “CBTPA Beneficiary Countries.” The criteria that the President must take into account in designating countries as CBTPA Beneficiary Countries include the existing criteria in Section 212(b) and (c) of the CBERA, 19 USC 2702(b)-(c), as well as several new criteria added by the CBTPA. The new criteria, which are set out in section 211(a) of the CBTPA, include the following:

“(i) Whether the beneficiary country has demonstrated a commitment to—

“(I) Undertake its obligations under the WTO, including those agreements listed in section 101(d) of the Uruguay Round Agreements Act, on or ahead of schedule; and

“(II) Participate in negotiations toward the completion of the FTAA or another free trade agreement.

“(ii) The extent to which the country provides protection of intellectual property rights consistent with or greater than the protection afforded under the Agreement on Trade-Related Aspects of Intellectual Property Rights described in section 101(d)(15) of the Uruguay Round Agreements Act.

“(iii) The extent to which the country provides internationally recognized worker rights, including—

“(I) The right of association;

“(II) The right to organize and bargain collectively;

“(III) A prohibition on the use of any form of forced or compulsory labor;

“(IV) A minimum age for the employment of children; and

“(V) Acceptable conditions of work with respect to minimum wages, hours or work, and occupational safety and health;

“(iv) Whether the country has implemented its commitments to eliminate the worst forms of child labor, as defined in section 507(6) of the Trade Act of 1974.

“(v) The extent to which the country has met the counter-narcotics certification criteria set forth in section 490 of the Foreign Assistance Act of 1961 (22 U.S.C. 2291j) for eligibility for United States assistance.

“(vi) The extent to which the country has taken steps to become a party to and implements the Inter-American Convention Against Corruption.

“(vii) The extent to which the country—

“(I) Applies transparent, nondiscriminatory, and competitive procedures in government procurement equivalent to those contained in the Agreement in Government Procurement described in section 101(d)(17) of the Uruguay Round Agreements Act; and

“(II) contributes to efforts in international fora to develop and implement international rules in transparency in government procurement.”

Countries Considered To Be Caribbean Basin Countries

The following countries are considered to be Caribbean Basin countries under the CBTPA:

Antigua and Barbuda

Aruba

Bahamas

Barbados

Belize

Costa Rica

Dominica

Dominican Republic

El Salvador

Grenada

Guatemala

Guyana

Haiti

Honduras

Jamaica

Montserrat

Netherlands Antilles

Nicaragua

Panama

St. Kitts and Nevis

Saint Lucia

Saint Vincent and the Grenadines

Trinidad and Tobago

British Virgin Islands

Submitting Written Comments

Interested parties are invited to submit comments regarding the eligibility of countries noted above for designation as CBTPA beneficiary countries. All submissions must include an original and twenty (20) copies in English. All submissions should clearly identify on the cover page of the submission the country or countries and eligibility criterion or criteria discussed within the submission. All pages should be clearly numbered and include the name of the person and/or organization submitting the written comments. All submissions must be received no later than 5 p.m. on Monday, July 17, 2000,and should be addressed to Gloria Blue in Room 122, 600 17th Street, N.W., Washington, D.C. 20508. Public versions of all documents relating to this review will be available for inspection by appointment in the USTR public reading room. Appointments may be scheduled between 9 a.m. and noon and 1 p.m. and 4 p.m. by calling (202) Submissions that are granted “business confidential” status and other information submitted in confidence will not be available for public inspection. Business confidential information will be subject to the requirements of 15 CFR 2003.6. A justification as to why the information contained in the submission should be treated confidentially must be included in the submission. If a document contains such business confidential information, an original and twenty (20) copies of the business confidential versions of the document along with an original and twenty (20) copies of a non-confidential version must be submitted. The document that contains business confidential information should be clearly marked “business confidential” at the top and bottom of each page. The version that does not contain business confidential information (the public version) should also be clearly marked at the top and bottom of every page (either “public version” or “non-confidential”).

Peter F. Allgeier,
Associate U.S. Trade Representative for the Western Hemisphere.

[FR Doc. 00-15407 Filed 6-16-00; 8:45 am]

BILLING CODE 3190-01-M